DEPARTMENT OF ENERGY

Federal Energy Regulatory Commission

[Docket Nos. CP07-62-000; CP07-63-000]

AES Sparrows Point LNG, LLC; Mid-Atlantic Express, LLC; Notice of Availability of the Revised Draft Final General Conformity Determination for Pennsylvania for the Proposed Sparrows Point LNG Terminal and Pipeline Project

March 1, 2010.

The staff of the Federal Energy Regulatory Commission (FERC or Commission) has prepared this revised draft Final General Conformity Determination (GCD) for Pennsylvania to assess the potential air quality impacts associated with the construction and operation of a liquefied natural gas (LNG) import terminal and natural gas pipeline proposed by AES Sparrows Point LNG, LLC and Mid-Atlantic Express, LLC, collectively referred to as AES, in the above-referenced dockets. A separate Final General Conformity Determination was issued for Maryland on December 29, 2009.

This revised draft Final GCD was prepared to satisfy the requirements of the Clean Air Act. The FERC staff concludes that the Project will achieve conformity in Pennsylvania. If significant new comments are received by the end of the 30-day public comment period, FERC staff will issue a Final GCD to address any changes necessary and respond to comments. If no new significant comments are received, FERC staff will issue a public notice identifying this draft Final GCD as final.

Copies of this revised draft Final GCD have been mailed to the U.S. Environmental Protection Agency, Region III, the Maryland Department of Natural Resources, the Maryland Department of Environment, the Pennsylvania Department of Environmental Protection, and the Virginia Department of Environmental Quality.

The revised draft Final GCD for Pennsylvania addresses the potential air quality impacts from the construction and operation of the following LNG terminal and natural gas pipeline facilities:

• A ship unloading facility, with two berths, capable of receiving LNG ships with capacities up to 217,000 m³;

• Three 160,000 m³ (net capacity) full-containment LNG storage tanks;

• A closed-loop shell and tube heat exchanger vaporization system;

• Various ancillary facilities including administrative offices, warehouse, main control room, security building, and a platform control room;

• Meter and regulation station within the LNG Terminal site;

• Dredging an approximate 118 acre area in the Patapsco River to 45 feet below mean lower low water to accommodate the LNG vessels and transport of the processed dredge material to its disposal location; and

• Approximately 88 miles of 30-inch-diameter natural gas pipeline (approximately 48 miles in Maryland and 40 miles in Pennsylvania), a pig launcher and receiver facility at the beginning and ending of the pipeline, 10 mainline valves, and three meter and regulation stations, one at each of three interconnection sites at the end of the pipeline.

The revised draft Final GCD has been placed in the public files of the FERC and is available for public viewing on the FERC's Web site at http://www.ferc.gov using the eLibrary link. A limited number of copies of the revised draft Final GCD are available for distribution and public inspection at: Federal Energy Regulatory Commission, Public Reference Room, 888 First Street, NE., Room 2A, Washington, DC 20426, (202) 502-8371.

Any person wishing to comment on the revised draft Final GCD may do so. To ensure that your comments are properly recorded and considered prior to issuance of the Final GCD, it is important that we receive your comments in Washington, DC on or before March 31, 2010.

For your convenience, there are three methods you can use to submit your comments to the Commission. In all instances please reference the project docket numbers (CP07-62-000 and CP07-63-000) with your submission. The Commission encourages electronic filing of comments and has dedicated eFiling expert staff available to assist you at 202-502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Additional information about the project is available from the Commission's Office of External Affairs at (866) 208-FERC. The administrative public record for this proceeding to date is on the FERC Web site http://www.ferc.gov. Go to Documents & Filings and choose the eLibrary link. Under eLibrary, click on “General Search,” and enter the docket number excluding the last three digits in the Docket Number field (e.g., CP07-62). Be sure you have selected an appropriate date range. For assistance, please contact FERC Online Support at: FERCOnlineSupport@ferc.gov or toll free at (866) 208-3676, or for TTY call (202) 502-8659. The eLibrary link on the FERC Web site also provides access to the texts of formal documents issued by the Commission, such as orders, notices, and rulemakings.

Kimberly D. Bose,
Secretary.

[FR Doc. 2010-5000 Filed 3-9-10; 8:45 am]

BILLING CODE 6717-01-P